DEPARTMENT OF DEFENSE

Department of the Army

Corps of Engineers

[ID SPK-2009-00511]

Notice of Availability of Draft Environmental Impact Statement for the Sunridge Properties in the Sunridge Specific Plan Area, in Rancho Cordova, Sacramento County, CA

AGENCY: Department of the Army, U.S. Army Corps of Engineers, DOD.

ACTION: Notice of Availability.

SUMMARY: The U.S. Army Corps of Engineers, Sacramento District, (Corps) has prepared a Draft Environmental Impact Statement (EIS) to analyze programmatically the direct, indirect and cumulative effects associated with six residential development projects in the Sunridge Specific Plan area in Rancho Cordova, Sacramento County, CA.

The purpose of the Draft EIS is to provide decision-makers and the public with information pertaining to the Proposed Action and alternatives, and to disclose environmental impacts and identify mitigation measures to reduce impacts. The Proposed Action is the construction of the six projects (collectively, the “Sunridge Properties”) which would require the filling of approximately 29.7 acres of waters of the United States, including wetlands. The EIS is being prepared as part of ongoing litigation concerning Department of the Army permits issued by the Corps between 2005 and 2007 for five of the projects and a pending permit decision for the sixth. A stay in the litigation is in place while the Corps reevaluates the impacts of the projects through preparation of the EIS.

The Draft EIS was prepared in accordance with the National Environmental Policy Act (NEPA) of 1969, as amended, and the Corps' regulations for NEPA implementation at 33 Code of Federal Regulations parts 230 and 325 Appendix B. The Corps is the lead Federal agency responsible for complying with NEPA and information contained in the EIS serves as the basis for decisions regarding issuance of a Department of the Army permits.

DATES: Comments on the Draft EIS must be submitted to the Corps by August 15, 2010.

ADDRESSES: Please send written comments to Michael Jewell, Chief of the Regulatory Division, U.S. Army Corps of Engineers, Sacramento District, 1325 J Street, Room 1480, Sacramento, CA 95814-2922. You may also e-mail your comments to michael.s.jewell@usace.army.mil.

FOR FURTHER INFORMATION CONTACT: Michael Jewell, (916) 557-6605, e-mail: michael.s.jewell@usace.army.mil.

SUPPLEMENTARY INFORMATION: The Sunridge Specific Plan area is a master-planned area consisting of nine residential and commercial developments located in eastern Rancho Cordova, Sacramento County, CA. The Specific Plan, which was originally approved by the County of Sacramento in 2002, is part of a larger planning effort in the City of Rancho Cordova called the Sunrise-Douglas Community Plan. Three of the nine projects in the Sunridge Specific Plan area have been built. The Proposed Action is the construction of the remaining six projects in the Specific Plan area. Collectively, these six projects are referred to as the Sunridge Properties. The overall purpose of the action is to construct a large residential development, including supporting infrastructure, in southeastern Sacramento County, California.

Between 2005 and 2007, the Corps completed Environmental Assessments, made Findings of No Significant Impact, and issued permits for five of the six Sunridge Specific Plan Projects. The permitted projects are Anatolia IV, Sunridge Village J, Grantline 208, Douglas Road 98, and Douglas Road 103. A permit decision has not been rendered for the sixth of the Sunridge Specific Plan Projects, Arista Del Sol.

1. The Anatolia IV project received a DA permit (ID: SPK-1994-00210) from Corps on October 2, 2006. It is located on a 24-acre site south of Douglas Road and adjacent to the west side of Jaeger Road. The project involves filling approximately 1.4 acres of waters of the U.S., including wetlands, to construct 134 houses, roadways, and other infrastructure. As compensation for the loss of waters, the permittee purchased 1.4 acres of vernal pool creation credits at the Laguna Terrace Mitigation Bank, and purchased 2.7 credits of preservation credits from the Anatolia Preserve to satisfy U.S. Fish and Wildlife Service (USFWS) requirements, and 2.7 credits at Gill Ranch to satisfy Corps requirements. No on-site preserve area is proposed. The permittee for this project is the Sunridge, LLC.

2. The Sunridge Village J project received a DA permit (ID: SPK-2001-00230) from Corps on October 24, 2006. It is located on an 81.3-acre site in the southwest corner of the intersection formed by Douglas Road and Jaeger Road. The project involves filling approximately 3.0 acres of waters of the U.S., including wetlands, to construct 369 houses, roadways, and other infrastructure. No on-site preserve area is proposed. As compensation for the loss of waters, the permittee paid for the creation of 3.4 acres of vernal pools and the preservation of functioning wetland habitat. The Corps' required mitigation action has been completed. The USFWS Biological Opinion concluded that the project would adversely affect approximately 2.49 acres of vernal pool habitat, 1.88 acres directly and 0.36 acres indirectly. As mitigation the USFWS identified preserving 9.96 acres at Bryte Ranch Conservation Bank and creating 2.10 acres of vernal pool and seasonal wetland habitat. The permittee for this project is Cresleigh Homes.

3. The Grantline 208 project received a DA permit (ID: SPK-1994-00365) on October 25, 2006. It is located on a 211-acre site in the southeast corner of the intersection formed by Douglas Road and Grant Line Road. As part of the project, approximately 5.7 acres of waters of the U.S., including wetlands, would be filled to construct 855 houses, roadways, and other infrastructure. The permittee proposes to preserve 68.1 acres of wetlands within its property. Compensatory mitigation identified in the DA permit is the restoration and/or creation of 6.2 acres of vernal pool habitat off-site. This action has not been taken, but it is expected to occur within the Gill Ranch Open Space Preserve, a 10,400-acre preserve in eastern Sacramento County. The USFWS Biological Opinion concluded that the project would adversely affect approximately 5.55 acres directly and 0.45 acres indirectly of vernal pool habitat. To mitigate for this loss, the USFWS instructed the permittee to preserve 11.55 acres of vernal pool habitat at either the Town Center Property or Anatolia Conservation Bank, and to create 6.0 acres of vernal pool crustacean habitat. The permittee for this project is Grantline Investors, LLC.

4. The Douglas Road 98 project received a DA permit (ID: SPK-2002-00568) on May 31, 2006. It is located on a 105-acre site south of Douglas Road and adjacent to the west side of Grant Line Road. As part of the project, approximately 3.9 acres of waters of the U.S., including wetlands, would be filled to construct 693 houses, roadways, and other infrastructure. No on-site preserve area is proposed. To compensate for the loss of waters, 3.9 acres of wetland habitat would be constructed or created off-site. This action has not been taken; but is expected to occur within Gill Ranch Open Space Preserve, a 10,400-acre preserve in eastern Sacramento County. The USFWS Biological Opinion concluded that the project would adversely affect 3.70 acres of vernal pool habitat. To mitigate for this loss, the permittee is required to preserve either 7.8 acres of vernal pool crustacean habitat at the Anatolia preserve or 15.6 acres at Borden Ranch, and create 3.91 acres at the Silva Consolidated Conservation Bank. The permittee for this project is Woodside Homes.

5. The Douglas Road 103 project received a DA permit (ID: SPK-1997-00006) on June 18, 2007. It is located on a 106-acre site adjacent to the south side of Douglas Road and west of Grant Line Road. As part of the project, approximately 2.0 acres of waters of the U.S., including wetlands, would be filled to construct 301 houses, roadways, and other infrastructure. The permittee proposes to preserve 44 acres of wetlands on-site. Compensatory mitigation identified in the DA permit but not yet implemented includes restoring or creating 7.3 acres of vernal pool habitat and preserving 5.9 acres of vernal pool habitat off-site. Mitigation is expected to occur within Gill Ranch Open Space Preserve, a 10,400-acre preserve in eastern Sacramento County. In the Biological Opinion, the USFWS concluded that the project would directly affect 1.97 and indirectly affect 2.91 acres of vernal pool crustacean habitat. To mitigate for this loss, the USFWS directed the permittee to restore 4.88 acres of vernal pool habitat. The permittee for this project is Douglas Grantline 103 Investors, LLC.

6. The Arista del Sol project (ID: SPK-2004-00458) is located on a 215-acre site south of Douglas Road and adjacent to the west side of Grant Line Road. The applicant proposes to fill approximately 13.9 acres of waters of the U.S., including wetlands, to construct 906 houses, roadways, and other infrastructure. The permittee proposes to preserve 42 acres of wetlands on-site. According to the Biological Opinion issued for the project, approximately 12 acres of wetland habitat would be created and 22.5 acres of wetland habitat preservation would occur off-site. Mitigation is expected to occur within Gill Ranch Open Space Preserve, a 10,400-acre preserve in eastern Sacramento County. The applicant for this project is Pappas Investments.

The Draft EIS includes an evaluation of a reasonable range of alternatives. The Draft EIS considers several on-site and off-site alternatives. Three alternatives were carried through for detailed analysis: (1) The no action alternative, (2) the proposed action (the applicants' preferred projects), and (3) a reduced footprint alternative. The no action alternative is limited to development in uplands, avoiding all waters of the United States. The reduced development footprint alternative involves less development with fewer impacts to waters of the United States.

Comments on the Draft EIS must be submitted to the Corps by August 15, 2010. The public and affected Federal, State, and local agencies, Native American Tribes, and other organizations and parties are invited to comment. Electronic copies of the Draft EIS may be found on the Corps' Web site at http://www.spk.usace.army.mil/organizations/cespk-co/regulatory/EISs/EIS-index.html. A hard copy of the Draft EIS will be available for review at the Corps office during normal business hours. To view the hard copy, please contact Michael Jewell to schedule a time to visit the Corps office.

The Corps will also hold two public meetings for the Draft EIS. The meetings will be held on July 27, 2010, with the first from 5 p.m. to 6 p.m. and the second from 7 p.m. to 8 p.m. The location of the meetings is at the Rancho Cordova City Hall, 2729 Prospect Park Drive, American River Room—South, Rancho Cordova, CA 95670. Interested parties can provide oral and written comments at these meetings.

In addition to notices in the Federal Register, the Corps will issue public notices advising interested parties of the availability of the Draft EIS and Final EIS. Interested parties may register for the Corps' public notices at: http://www.spk.usace.army.mil/organizations/cespk-co/regulatory/pnlist.html.

Dated: June 22, 2010.
Thomas C. Chapman,
Colonel, Corps of Engineers, District Engineer.

[FR Doc. 2010-16138 Filed 7-1-10; 8:45 am]

BILLING CODE 3720-58-P